ELECTION ASSISTANCE COMMISSION

Public Hearing: Election Response to COVID-19 Administering Elections During the Coronavirus Crisis

AGENCY: U.S. Election Assistance Commission.

ACTION: Sunshine Act Notice; Notice of Public Hearing Agenda.

DATES: Wednesday, April 22, 2020 1:00 p.m.-3:00 p.m. Eastern.

ADDRESSES: Virtual via Zoom. The hearing is open to the public and will be available through Zoom. Call-in information will be available at https://www.eac.gov and a recording will be available on the EAC website at a later date.

SUPPLEMENTARY INFORMATION:

Purpose: In accordance with the Government in the Sunshine Act (Sunshine Act), Public Law 94-409, as amended (5 U.S.C. 552b), the U.S. Election Assistance Commission (EAC) will conduct a virtual hearing to discuss issues facing state and local election officials regarding elections and the COVID-19 pandemic, including considerations regarding the expansion of voting by mail and absentee voting.

Agenda: The U.S. Election Assistance Commission (EAC) will host a virtual hearing to discuss the administration of federal elections during the COVID-19 pandemic. During this hearing, EAC Commissioners will hear panelists present on major considerations for expanding vote by mail options for the remaining primaries and the general election and considerations for in-person voting. Panelists will include state and local election officials, and other representatives from the elections administration field. Other considerations such as accessibility for voters with disabilities and ensuring secure elections will also be discussed. The full agenda will be posted in advance on the EAC website: https://www.eac.gov.

Status: This hearing will be open to the public.

FOR FURTHER INFORMATION CONTACT: Kristen Muthig, Telephone: (202) 897-9285, Email: kmuthig@eac.gov.

Amanda Joiner,
Associate Counsel, U.S. Election Assistance Commission.

[FR Doc. 2020-08027 Filed 4-15-20; 8:45 am]

BILLING CODE P